DEPARTMENT OF THE INTERIOR

United States Geological Survey

Notice of Availability of the Final Environmental Assessment for the Upper Midwest Environmental Sciences Center ARRA Funded Construction Projects

AGENCY: United States Geological Survey, Interior.

ACTION: Notice of Availability (NOA).

SUMMARY: In accordance with the National Environmental Policy Act of 1969 (NEPA), as amended, and the Federal Land Policy and Management Act of 1976, as amended, the United States Geological Survey (USGS) has prepared a Final Environmental Assessment (EA) for the projects described in this NOA. By this notice, the USGS is announcing its availability. In addition, a Draft Environmental Assessment was published on December 23, 2009, for a 7-day public comment period and no comments were received.

DATES: The USGS will not issue a final decision on the proposed projects, until after 30 days from the date this notice is published in the Federal Register.

FOR FURTHER INFORMATION CONTACT: Mr. Bill Hayman, Facility Mechanical Engineer at Upper Midwest Environmental Sciences Center, 2630 Fanta Reed Road, La Crosse, WI 54603; (608) 781-6253 (telephone); (608) 783-6066 (fax); or bhayman@usgs.gov (e-mail). Copies of the Environmental Assessment for the proposed projects are available for public inspection during regular business hours at the USGS Upper Midwest Environmental Sciences Center (see address above).

Before including your address and any other personal identifying information in your comment, please be aware that your entire comment, including your personal identifying information, may be made publicly available at any time. While you may ask us in your comment to withhold your personal identifying information from public review, we cannot guarantee that we will be able to do so.

SUPPLEMENTARY INFORMATION:

Background Information

The objective of the Upper Midwest Environmental Sciences Center is to provide comprehensive research facilities to study the acute and chronic effects of chemicals on fish and non-target life, physical, and biological controls, specific diseases, predation, and integrated controls.

Project Descriptions

Six separate projects are proposed as follows:

1. Fire Suppression—Segments A through D.

2. Water Storage Tank.

3. WWTF (Wastewater Treatment Facility) Remediation.

4. Segment D Addition.

5. Water Supply.

6. Storm Water Management.

Fire Suppression

The proposed action is to install automatic fire suppression systems consisting of internal sprinkler systems designed to fit each building's unique layout, function and purpose. The systems will be supplied with water from the City of La Crosse water system. The purpose of this project is to enhance fire protection capabilities for the existing buildings and the proposed Segment D addition.

Water Storage Tank

The proposed action is to construct a new welded steel water storage tank west of the existing water storage tank and to refurbish the existing water storage tank. The new tank will be connected to the existing on-site water distribution system. The purpose of this project is to ensure the water supply required for the research at UMESC is maintained.

Wastewater Treatment Facility (WWTF) Remediation

The proposed WWTF remediation project includes the following items:

• Replace synthetic liner in secondary pond.

• Install UV (ultraviolet) equipment for disinfection of final effluent.

• Repair fence and gates.

• Repair eroded bank outside of fence.

• Restore roadways within fence.

The purpose of this project is to ensure the pond and features associated with the pond are repaired and modified to ensure their future integrity.

Segment D Addition

The proposed action involves the construction of a new, approximately 22,000 sq. ft., two-level building addition onto the south side of existing Segment C. The upper level will include a large group conference center for public meetings and presentations associated with the work conducted by UMESC. The lower level will house individual office spaces and interior lab space for the GIS Department.

Surface water quality will improve due to disinfection of the wastewater treatment facility effluent. Storm water runoff generated by the proposed actions will be infiltrated so it will not reach surface waters. On-site groundwater use will be slightly reduced due to connection to the City of La Crosse water system for potable water.

The purpose of this project is to provide additional office and meeting room space that is required.

Water Supply

The proposed action is to connect to the City of La Crosse water system at the end of Fanta Reed Road approximately 300 feet south of Segment C to provide water for potable use.

The purpose of this project is to provide UMESC with potable drinking water for the personnel at UMESC.

Storm Water Management

The proposed action is to construct storm water best management practices to divert existing storm water runoff which will minimize the potential of surface runoff overloading the capacity of the site's WWTF.

The purpose of this project is to minimize the potential of the WWTF capacity being exceeded due to storm water influence, improving the water quality of the site surface runoff, and reducing the quantity of the runoff from the site.

Dated: April 23, 2010.
James F. Devine,
Senior Advisor for Science Application, Senior Advisor for Science Applications, United States Geological Survey.

[FR Doc. 2010-16432 Filed 7-6-10; 8:45 am]

BILLING CODE P